DEPARTMENT OF LABOR

Employment & Training Administration

[SGA/DFA-PY 08-19]

Solicitation for Grant Applications (SGA); Amendment One; Pathways Out of Poverty

AGENCY: Employment and Training Administration (ETA), Labor.

ACTION: Notice: Amendment to SGA/DFA-PY 08-19.

SUMMARY: The Employment and Training Administration published a document in the Federal Register on June 24, 2009, announcing the availability of funds and solicitation for grant applications (SGA) for Pathways Out of Poverty to be awarded through a competitive process. This amendment to the SGA clarifies items related to: (1) The grant officer to whom mailed applications should be addressed; (2) supplementary information in Section B “Green Industries and Occupations”; (3) eligible applicants and required partnerships (Section III.A); (4) local entities (Section III.A.2); and (5) participants eligible to receive training (Section III.D.1). The document is hereby amended.

1. ADDRESSES section (page 30138) is revised by replacing the language designated below as “old text” with the language designated as “new text” as follows:

a. Old Text—“ADDRESSES: Mailed applications must be addressed to the U.S. Department of Labor, Employment & Training Administration, Division of Federal Assistance, Attention: Melissa Abdullah, Grants Officer, Reference SGA/DFA PY 08-19, 200 Constitution Avenue, NW., Room N4716, Washington, DC 20210.”

b. New Text—“ADDRESSES: Mailed applications must be addressed to the U.S. Department of Labor, Employment & Training Administration, Division of Federal Assistance, Attention: Donna Kelly, Grant Officer, Reference SGA/DFA PY 08-19, 200 Constitution Avenue, NW., Room N4716, Washington, DC 20210.”

2. SUPPLEMENTARY INFORMATION Section B “Green Industries and Occupations” (page 30139) is revised to provide further information on the industries on which applicants may focus by adding the language designated below as “new text” to the existing language in that section:

a. New Text: “We will also evaluate applications for projects that include emerging green occupations from industries that have not been discussed in this section.”

3. Section III.A, “Eligible Applicants and Required Partnerships” (page 30140) is revised to confirm that the applicant in the proposed project must be clearly designated by replacing the language designated below as “old text” with the language designated as “new text” as follows at the end of the first paragraph:

a. Old Text—“The applicant categories for this SGA, along with the required partnerships for each, are defined below.”

b. New Text—“The applicant categories for this SGA, along with the required partnerships for each, are defined below. While the SGA indicates required and suggested partners, the proposal must designate a lead applicant.”

4. Section III.A.2, “Local Entities” (page 30141) is revised to confirm that Tribal Governments may be eligible applicants within the local entity category, and provide further information on the definition of non-profit entities. In the SGA, the language designated below as “old text” is replaced with the language designated as “new text,” as follows:

a. Old Text—“For the purposes of this SGA, applicants qualify as local entities if they are public organizations (such as community colleges or workforce investment boards) or private nonprofit organizations (such as community or faith-based organizations) whose service area is limited to a single sub-State geographic area, such as a neighborhood, city, county, sub-State region, or interstate region comprised of multiple sub-State regions (such as Kansas City).”

b. New Text—“For the purposes of this SGA, applicants qualify as local entities if they are public organizations or private nonprofit organizations (which may include entities such as community colleges, workforce investment boards, community or faith-based organizations, and Tribal Governments) whose service area is limited to a single sub-State geographic area, such as a neighborhood, city, county, sub-State region, or interstate region comprised of multiple sub-State regions (such as Kansas City). A private nonprofit entity is an organization that is legally organized for the purposes of tax exempt nonprofit status under the Internal Revenue Service (IRS), or is actively pursuing IRS nonprofit tax exempt status.”

5. Section III.D.1, “Participants Eligible to Receive Training” (page 30142) is revised to clarify that within the four categories of individuals that grantees must serve through grants awarded through this SGA, grantees may serve a broad range of individuals. In the SGA, the language designated below as “old text” is replaced with the language designated as “new text,” as follows:

a. Old Text—“For specific definitions for these target populations, applicants must refer to Section VI.B.”

b. New Text—“For specific definitions for these target populations, applicants must refer to Section VI.B. Within these four categories, eligible participants may serve a broad range of individuals, including: Individuals with disabilities, individuals with limited English proficiency, Veterans, Indian and Native Americans, and older workers.”

FOR FURTHER INFORMATION CONTACT: Melissa Abdullah, Grants Management Specialist, Division of Federal Assistance, at (202) 693-3346.

Signed at Washington, DC, this 17th day of July 2009.
Donna Kelly,
Grant Officer, Employment & Training Administration.

[FR Doc. E9-17414 Filed 7-21-09; 8:45 am]

BILLING CODE 4510-FN-P